GENERAL SERVICES ADMINISTRATION

[Notice-CECANF-2015-03; Docket No. 2015-0004; Sequence No. 3]

Commission To Eliminate Child Abuse and Neglect Fatalities; Announcement of Meeting

AGENCY: Commission to Eliminate Child Abuse and Neglect Fatalities, GSA.

ACTION: Meeting Notice.

SUMMARY: The Commission to Eliminate Child Abuse and Neglect Fatalities (CECANF), a Federal Advisory Committee established by the Protect Our Kids Act of 2012, will hold a meeting open to the public on Tuesday, April 28, 2015 and Wednesday, April 29, 2015 in Memphis, Tennessee.

DATES: The meeting will be held on Tuesday, April 28, 2015, from 8:00 a.m. to 5:15 p.m. Central Daylight Time (CDT), and Wednesday, April 29, 2015, from 8:00 a.m. to 1:00 p.m. Central Daylight Time (CDT). Comments regarding this meeting must be received by Friday, April 24, 2015, for consideration prior to the meeting.

ADDRESSES: CECANF will convene its meeting at the Spring Hill Suites Memphis Downtown, 85 West Court Ave., Memphis, TN 38103. This site is accessible to individuals with disabilities. The meeting also will be made available via teleconference and/or webinar.

Submit comments identified by “Notice-CECANF-2015-03,” by either of the following methods:

• Regulations.gov: http://www.regulations.gov. Submit comments via the Federal eRulemaking portal by searching for “Notice-CECANF-2015-03.” Select the link “Comment Now” that corresponds with “Notice-CECANF-2015-03.” Follow the instructions provided on the screen. Please include your name, organization name (if any), and “Notice-CECANF-2015-03” on your attached document.

• Mail: U.S. General Services Administration, 1800 F Street NW., Room 7003D, Washington, DC 20405, Attention: Tom Hodnett (CD) for CECANF.

Instructions: Please submit comments only and cite “Notice-CECANF-2015-03” in all correspondence related to this notice. All comments received will be posted without change to http://www.regulations.gov, including any personal and/or business confidential information provided.

FOR FURTHER INFORMATION CONTACT: Visit the CECANF Web site at https://eliminatechildabusefatalities.sites.usa.gov/ or contact Patricia Brincefield, Communications Director, at 202-818-9596, U.S. General Services Administration, 1800 F Street NW., Room 7003D, Washington, DC 20405, Attention: Tom Hodnett (CD) for CECANF.

SUPPLEMENTARY INFORMATION:

Background: CECANF was established to develop a national strategy and recommendations for reducing fatalities resulting from child abuse and neglect.

Agenda: This meeting will explore key research, policy, and practice in the state of Tennessee related to addressing and preventing child abuse and neglect fatalities. Speakers will address the role of child advocacy centers and methods of developing and implementing a safety-based culture in challenging environments. Commission members will then continue discussing the work plans of the Commission subcommittees, the information that they have obtained to date, and emerging high-level recommendations.

Attendance at the Meeting: Individuals interested in attending the meeting in person or participating by webinar and teleconference must register in advance. To register to attend in person or by webinar/phone, please go to http://meetingtomorrow.com/webcast/CECANF and follow the prompts. Once you register, you will receive a confirmation email with the webinar login and teleconference number. Detailed meeting minutes will be posted within 90 days of the meeting. Members of the public will not have the opportunity to ask questions or otherwise participate in the meeting.

However, members of the public wishing to comment should follow the steps detailed under the heading ADDRESSES in this publication or contact us via the CECANF Web site at https://eliminatechildabusefatalities.sites.usa.gov/contact-us/.

Dated: April 1, 2015.
Karen White,
Executive Assistant.

[FR Doc. 2015-08006 Filed 4-7-15; 8:45 am]

BILLING CODE 6820-34-P